NUCLEAR REGULATORY COMMISSION

[Docket No. 50-354; NRC-2009-0391; Facility Operating Licenses No. NPF-57]

PSEG Nuclear LLC; Notice of Receipt and Availability of Application for Renewal of Hope Creek Generating Station for An Additional 20-Year Period

The U.S. Nuclear Regulatory Commission (NRC) has received an application, dated August 18, 2009, from PSEG Nuclear LLC, filed pursuant to Section 103, of the Atomic Energy Act of 1954, as amended, and Title 10 of the Code of Federal Regulations Part 54 (10 CFR Part 54), to renew the operating licenses for the Hope Creek Generating Station (HCGS). Renewal of the license would authorize the applicant to operate the facility for an additional 20-year period beyond the period specified in the respective current operating license. The current operating license for HCGS (NPF-57) expires on April 11, 2026. HCGS is a General Electric boiling-water reactor. It is located in Salem County, New Jersey. The acceptability of the tendered application for docketing, and other matters including an opportunity to request a hearing, will be the subject of subsequent Federal Register notices.

Copies of the application are available to the public at the NRC's Public Document Room (PDR), located at One White Flint North, 11555 Rockville Pike, Rockville, Maryland 20852 or through the internet from the NRC's Agencywide Documents Access and Management System (ADAMS) Public Electronic Reading Room under Accession Number ML092430376. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail at PDR.Resource@nrc.gov.

A copy of the license renewal application for HCGS is also available to local residents near the site at the Salem Free Library, 112 West Broadway, Salem, New Jersey 08079.

Dated at Rockville, Maryland, this 31st day of August, 2009.
For The Nuclear Regulatory Commission.
David L. Pelton,
Chief, Projects Branch 1, Division of License Renewal, Office of Nuclear Reactor Regulation.

[FR Doc. E9-21617 Filed 9-4-09; 8:45 am]

BILLING CODE 7590-01-P